DEPARTMENT OF ENERGY

Federal Energy Regulatory Commission

[Project No. 13656-000]

TideWorks, LLC; Notice of Application Accepted for Filing, Soliciting Motions To Intervene and Protests, and Intent To Waive Scoping

May 28, 2010.

Take notice that the following hydroelectric application has been filed with the Commission and is available for public inspection.

a. Type of Application: Exemption From Licensing.

b. Project No.: P-13656-000.

c. Date Filed: January 15, 2010.

d. Applicant: TideWorks, LLC.

e. Name of Project: TideWorks Project.

f. Location: On the Sasanoa River adjacent to Bareneck Island, in Sagadahoc County, Maine. The project would not occupy lands of the United States.

g. Filed Pursuant to: Public Utilities Regulatory Policies Act of 1978, 16 U.S.C. 2705, 2708.

h. Applicant Contact: Shana Lewis, 730 N. Yellowstone Street, Livingston, MT 59047, (406) 224-2908.

i. FERC Contact: Tom Dean, (202) 502-6041.

j. On April 13, 2010, Commission staff requested additional information from TideWorks, LLC including project operation, water velocity, and finfish data in the area of the proposed project. On May 5, 2010, TideWorks, LLC filed a revised final exemption application in response to the requested information.

Based on a review of the exemption application, additional environmental information subsequently filed by TideWorks, LLC, resource agency consultation letters and comments filed to date, Commission staff intend to prepare a single environmental assessment (EA). The EA will assess the potential effects of project construction and operation on aquatic, terrestrial, threatened and endangered species, recreation, and cultural resources. Because staff believe the issues that need to be addressed in its EA have been adequately identified, with this notice, we are soliciting comments on our intent to waive scoping for the TideWorks Project.

k. Deadline for filing motions to intervene, protests, and comments: 60 days from the issuance date of this notice.

All documents (original and eight copies) should be filed with: Kimberly D. Bose, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Motions to intervene, protests, and comments may be filed electronically via the Internet in lieu of paper. The Commission strongly encourages electronic filings. See 18 CFR 385.2001(a)(1)(iii) and the instructions on the Commission's Web site (http://www.ferc.gov) under the “eFiling” link.

l. This application has been accepted for filing, but is not ready for environmental analysis at this time.

m. Description of Project: The proposed TideWorks Project would consist of: (1) A new 10-foot-wide, 20-foot-long steel pontoon float suspending into the river; (2) a new submerged 5 kilowatt single vertical shaft hydrokinetic turbine generating unit with four 4-inch-wide, 5-foot-long blades; (3) a new 3.5-foot-wide, 40-foot-long walkway ramp connecting the pontoon float to Bareneck Island; (4) a new 100-foot-long, 220-volt transmission line; and (5) appurtenant facilities. The project would have an average annual generation of about 22,000 kilowatt-hours. The project would operate in a run-of-river mode using the river current flood and ebb tidal flows to rotate the hydrokinetic turbine generating unit.

n. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural schedule and final amendments: The application will be processed according to the following Hydro Licensing Schedule. Revisions to the schedule will be made as appropriate. The Commission staff proposes to issue one EA rather than issue a draft and final EA. Comments, terms and conditions, recommendations, prescriptions, and reply comments, if any, will be addressed in an EA.

Notice of application ready for environmental analysis—September 2010

Notice of the availability of the EA—February 2011

Final amendments to the application must be filed with the Commission no later than 30 days from the issuance date of the notice of ready for environmental analysis.

Kimberly D. Bose,
Secretary.

[FR Doc. 2010-13563 Filed 6-7-10; 8:45 am]

BILLING CODE 6717-01-P